DEPARTMENT OF COMMERCE

National Oceanic and Atmospheric Administration

[I.D. 042204D]

NOAA Recreational Fisheries Strategic Plan Public Meeting

AGENCY: National Marine Fisheries Service (NMFS), National Oceanic and Atmospheric Administration (NOAA), Commerce.

ACTION: Notice of public meetings.

SUMMARY: The National Marine Fisheries Service (NOAA Fisheries) is hosting a series of public meetings to present a draft of the NOAA Recreational Fisheries Strategic Plan 2005 2010. The primary goal of the meeting is to collect public input on the DRAFT Plan. Additional meetings are planned for the Pacific Northwest (one), Hawaii (one) and the Atlantic (three) and Gulf Coast (two). Specific dates, times, and locations of these meetings will be published in the Federal Register.

DATES: The meetings will be held on May 4, 10, 26, and June 2, 2004. See SUPPLEMENTARY INFORMATION for specific dates, times, addresses and directions.

ADDRESSES: The meetings will be held in Seal Beach, CA, Dania Beach, FL, Portland, OR, and Tuckerton, NJ. See SUPPLEMENTARY INFORMATION for specific dates, times, addresses and directions. Copies of the DRAFT Plan will be available at each meeting, or can be made available in advance of the meeting on the web at http://www.nmfs.noaa.gov/recfish/ or by contacting Mr. Michael Kelly, Division Chief, NOAA Fisheries Office of Constituent Services, (301) 713-2379.

FOR FURTHER INFORMATION CONTACT: Mr. Michael Kelly, Division Chief, NOAA Fisheries Office of Constituent Services, (301) 713-2379.

SUPPLEMENTARY INFORMATION:

May 4, 2004 6:00-9:00 p.m.

Seal Beach City Council Chambers

Seal Beach, CA

Directions: From Interstate 405 to Seal Beach Blvd. South. Travel about 2.5 miles to the Pacific Coast Hwy, turn Right. Travel 0.4 mile to Main Street, turn Left. Travel two blocks to Central Ave., turn Right. Travel one block to Eight Street. City of Seal Beach Administration Building is 2nd building to right of the corner at 211 Eighth Street.

May 10, 2004 6:00-9:00 p.m.

International Game Fish Association Headquarters

300 Gulf Stream Way

Dania Beach, FL

Directions: Take I-95 to Griffin Road Exit 26; west on Griffin to first light (Anglers Ave.); south to Gulf Stream Way; left at Sportsman's Park. Tri Rail www.tri-rail.com Ft. Lauderdale Airport Station

May 26, 2004 6:00-9:00 p.m.

Pacific States Marine Fisheries Commission

205 SE Spokane Street, Suite 100

Portland, OR

Directions from Portland Airport: Follow NE AIRPORT WAY toward PORTLAND/SALEM. Take I-205 SOUTH/PORTLAND(I-84) exit. Take the I-84 WEST/US-30 WEST exit towards PORTLAND, exit #21B. Take the I-5 SOUTH towards BEAVERTON/SALEM. Take the I-5 SOUTH exit towards BEAVERTON/SALEM. Take the LAKE OSWEGO(OR-43) exit, exit #299A. Continue on SW HOOD AVE towards LAKE OSWEGO. Bear RIGHT on SW MACADAM AVE. Turn LEFT on SELLWOOD BRG. SELLWOOD BRG becomes SE TACOMA ST. Turn LEFT on SE 6TH AVE. Turn LEFT on SE SPOKANE ST. Arrive at 205 SE SPOKANE ST, PORTLAND

June 2, 2004 6:00-9:00 p.m.

Jacques Cousteau Coastal Learning Center

130 Great Bay Blvd.

Tuckerton, NJ

Directions: Take the New Jersey Garden State Parkway to exit 58 head off ramp towards Tuckerton Seaport and the Borough of Tuckerton. At the second light (intersection with Route 9) make a right onto Route 9 south. Pass the Tuckerton Seaport on your left (Lake on your right). Make a left at the light onto Great Bay Blvd. Follow Great Bay Blvd. pass the Tuckerton First Aid building on your right after the intersection (Radio Road) look for a shell driveway and a mailbox (#130) on your right. We are set back in the woods. If you go over a bridge you have gone too far.

Special Accommodations

The meeting is physically accessible to people with disabilities. Requests for sign language interpretation or other auxiliary aids should be directed to Mr. Michael Kelly at 301 713-9504 at least 5 days prior to the meeting date.

Dated April 22, 2004.
Rebecca Lent,
Deputy Assistant Administrator for Regulatory Programs,National Marine Fisheries Service.

[FR Doc. 04-9651 Filed 4-27-04; 8:45 am]

BILLING CODE 3510-22-S